FEDERAL COMMUNICATIONS COMMISSION

47 CFR Part 73

Radio Broadcasting Services; Marble Falls, TX

CFR Correction

In Title 47 of the Code of Federal Regulations, Parts 70 to 79, revised as of October 1, 2002, in § 73.202(b), in the Table of FM Allotments under Texas, add Marble Falls, Channel 285C2.

[FR Doc. 03-55518 Filed 8-1-03; 8:45 am]

BILLING CODE 1505-01-D